DEPARTMENT OF HEALTH AND HUMAN SERVICES

Health Resources and Services Administration

Healthy Start Initiative: Eliminating Disparities in Perinatal Health Program Listening Session

AGENCY: Health Resources and Services Administration (HRSA), Department of Health and Human Services.

ACTION: Notice of meeting.

DATES: Listening Session: March 1, 2018, 1:00 p.m.-2:00 p.m. (EST). In addition, written comments will be accepted until March 16, 2018.

ADDRESSES: The meeting will be held virtually via webinar and phone. The meeting is open to the public. Please register to attend this meeting via the following link: https://hrsa.connectsolutions.com/healthy_start_registration/event/registration.html. Registrations will be accepted through 5:00 p.m. EST on February 26, 2018. Call information for this meeting will be provided upon registration.

SUPPLEMENTARY INFORMATION: The purpose of the meeting is to solicit ideas for program development in the next grant cycle of HRSA's Healthy Start Initiative: Eliminating Disparities in Perinatal Health (Healthy Start) program, authorized by Section 330H of the Public Health Service Act (42 U.S.C. 254c-8), as amended by the Healthy Start Reauthorization Act of 2007 (Pub. L. 110-339).

HRSA's Healthy Start program currently supports 100 community-based projects across the nation where the infant mortality rate (IMR) was more than 1½ times the national average when they applied for funding. The program is designed to reduce IMR and improve perinatal health outcomes. Information about HRSA's Healthy Start program can be obtained by accessing the following website: https://mchb.hrsa.gov/maternal-child-health-initiatives/healthy-start. The Healthy Start grants were last competed in fiscal year (FY) 2014 with a project period of up to 5 years. The next grant cycle is expected to begin in FY 2019 (subject to the availability of funding). The last Healthy Start funding opportunity announcement can be found here: https://apply07.grants.gov/apply/opportunities/instructions/oppHRSA-14-020-cfda93.926-cidHRSA-14-020-instructions.pdf.

The Listening Session will serve as a platform to engage and obtain feedback from the public on HRSA's strategic thinking and approaches for community-based infant mortality reduction programs. A final meeting agenda will be shared with registrants prior to the meeting.

The desired outcomes of the meeting are to:

(1) Share with the public an overview of HRSA's current Healthy Start program;

(2) Identify strategies and approaches that are important to implement at the community level, and scientifically known to reduce infant mortality, improve perinatal outcomes, and disparities therein, through input from experts, representatives of professional organizations, and the public at large; and

(3) Inform HRSA's strategies and approaches implemented through the HRSA's Healthy Start program.

Time will be provided for public comments. Each public comment is limited to 2 minutes. During the meeting, participants will have an opportunity to interact with presenters via phone and the chat function in the public comment section of the webinar system. Telephone lines and time to provide oral comments during the meeting are available on a first-come, first-served basis. Registered attendees for this meeting are encouraged to submit written comments prior to the meeting, no later than 5:00 p.m. ET on February 26, 2018.

If unable to attend the listening session, written comments will continue to be accepted via email to MCHBHealthyStart@hrsa.gov through March 16, 2018. All written comments should identify the individual's name, address, email, telephone number, professional or organizational affiliation, background or area of expertise (i.e., program participant, clinician, public health worker, researcher, etc.), and topic/subject matter. Please note that all comments received under this notice will be made available to the general public upon written request, and are considered to be public, whether they are posted online or provided via written request.

FOR FURTHER INFORMATION CONTACT: Individuals who are submitting public comments or who have questions regarding the meeting should contact Benita Baker or CAPT Maria Benke, HRSA, Maternal and Child Health Bureau, telephone: (301) 443-8283, or email: MCHBHealthyStart@hrsa.gov.

Amy McNulty,
Acting Director, Division of the Executive Secretariat.

[FR Doc. 2018-03232 Filed 2-15-18; 8:45 am]

BILLING CODE 4165-15-P